DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Union Pacific Railroad Company

[Waiver Petition Docket Number FRA-2007-28454]

The Union Pacific Railroad Company (UP) seeks a waiver of compliance from certain provisions of 49 CFR Part 232, Brake System Safety Standards for Freight and Other Non-Passenger Trains and Equipment. Specifically, UP is seeking relief from the requirements for performing the single car air brake test as prescribed in § 232.305(b)(2), which states in part: “A car is on a shop or repair track, as defined in § 232.303(a), for any reason and has not received a single car air brake test within the previous 12-month period.”

UP states that they are performing repairs and wheel change-outs to cars in-train on selected trains in their yards across their system, in order to reduce the number of impact wheels and satisfy the demands of their customers to move commodities. UP claims that the in-train repairs also greatly reduce the number of switching events that would otherwise be required to effect the repairs, further reducing the risk of injury and derailment. UP believes that reducing the number of impact wheels has helped reduce the number of derailments due to broken rails, joint bars, wheels and bearings. The majority of these trains are in coal service and the cars are privately owned. UP contends that these cars receive regular periodic maintenance, so they seldom approach the 5-year limit in which a single car air brake test would normally be required. In addition, UP states that their system automatically flags cars in the yard when they are listed on the Association of American Railroad's MA-63, which is a list that identifies cars within 90 days of the 5-year limit. UP states that they will continue to perform a single car air brake test in compliance with § 232.305 (b)(4-5), (c), (d), and (e). UP believes that this request will not have an adverse effect on safety.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-28454) and must be submitted to the Docket Clerk, DOT Docket Management Facility, 1200 New Jersey Avenue SE., West Building Ground Floor, Room W12-140, Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Issued in Washington, DC on July 11, 2007.
Grady C. Cothen, Jr.,
Deputy Associate Administrator for Safety Standards and Program Development.

[FR Doc. E7-13741 Filed 7-16-07; 8:45 am]

BILLING CODE 4910-06-P